DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 6, 2006.

Interested persons are invited to submit written comments regarding the subject matter of the investigations to the Director, Division of Trade Adjustment Assistance, at the address shown below, not later than October 6, 2006.

The petitions filed in this case are available for inspection at the Office of the Director, Division of Trade Adjustment Assistance, Employment and Training Administration, U.S. Department of Labor, Room C-5311, 200 Constitution Avenue, NW., Washington, DC 20210.

Signed at Washington, DC, this 13th day of September 2006.
Linda G. Poole,
Certifying Officer, Division of Trade Adjustment Assistance.

Appendix
[TAA Petitions Instituted Between 9/4/06 and 9/8/06]
TA-W | Subject firm (petitioners) | Location | Date of institution | Date of petition
60001 | Butts Manufacturing (Comp) | Garden Grove, CA | 09/05/06 | 08/24/06
60002 | Pfizer Global Manufacturing (Comp) | Augusta, GA | 09/05/06 | 09/01/06
60003 | Central Products Company (Comp) | Brighton, CO | 09/05/06 | 09/01/06
60004 | Hughes Manufacturing (State) | Farmington Hills, MI | 09/05/06 | 09/01/06
60005 | Johnson Controls, Inc. (State) | Holland, MI | 09/05/06 | 09/01/06
60006 | Bosch (Comp) | Sumter, SC | 09/05/06 | 09/05/06
60007 | GKN Sinter Metals (State) | Salem, IN | 09/05/06 | 09/01/06
60008 | BBA Fiberweb (WPPW) | Washougal, WA | 09/06/06 | 09/01/06
60009 | Joan Fabrics Corporation (Comp) | Tyngsboro, MA | 09/06/06 | 09/05/06
60010 | Manpower (State) | Carbondale, IL | 09/06/06 | 09/05/06
60011 | OSRAM Sylvania, Inc. (Comp) | Central Falls, RI | 09/06/06 | 09/05/06
60012 | Federal Mogul Corporation (State) | Sparta, TN | 09/06/06 | 09/05/06
60013 | Hutchinson Fts., Inc. (State) | Byrdstown, TN | 09/06/06 | 09/05/06
60014 | Cornice (State) | Longmont, CO | 09/06/06 | 09/05/06
60015 | Laird Technologies (Wkrs) | Schaumburg, IL | 09/06/06 | 09/06/06
60016 | Wachovia Bank (Wkrs) | Philadelphia, PA | 09/06/06 | 09/06/06
60017 | Kimberly-Clark Corporation (Comp) | Neenah, WI | 09/07/06 | 09/06/06
60018 | Great Western Malting (Wkrs) | Vancouver, WA | 09/07/06 | 09/06/06
60019 | Artesyn Technologies (Comp) | Framingham, MA | 09/07/06 | 09/06/06
60020 | Venus Accessories, Ltd. (Wkrs) | Long Island City, NY | 09/07/06 | 08/14/06
60021 | Elite Cushions, Inc. (Wkrs) | Granite Falls, NC | 09/07/06 | 09/07/06
60022 | Ingram Micro, Inc. (Comp) | Williamsville, NY | 09/07/06 | 09/06/06
60023 | Benchmark Electronics (Comp) | Loveland, CO | 09/07/06 | 09/06/06
60024 | Agilent Technologies, Inc. (Comp) | Loveland, CO | 09/07/06 | 09/05/06
60025 | Modine Manufacturing (Union) | Logansport, IN | 09/07/06 | 09/06/06
60026 | BSN-Jobst, Inc. (Comp) | Rutherford College, NC | 09/07/06 | 09/06/06
60027 | Opelika Greige Plant (Comp) | Opelika, AL | 09/07/06 | 09/07/06
60028 | WestPoint Home (Comp) | Lanett, AL | 09/07/06 | 09/07/06
60029 | Standard Register (Wkrs) | Terre Haute, IN | 09/07/06 | 08/29/06
60030 | Rector Sportswear Corp. (State) | Rector, AR | 09/07/06 | 09/07/06
60031 | Velcorex—DMC Corp. (Wkrs) | Orangeburg, SC | 09/07/06 | 08/31/06
60032 | Ford Motor Company (Wkrs) | Dearborn, MI | 09/07/06 | 09/06/06
60033 | Northern Hardwoods (State) | South Range, MI | 09/08/06 | 09/07/06
60034 | Visteon Systems, LLC (UAW) | Lansdale, PA | 09/08/06 | 09/07/06
60035 | Rawlings Sporting Goods, Inc. (Comp) | St. Louis, MO | 09/08/06 | 09/07/06
60036 | Crane Plumbing (Comp) | Monroe, GA | 09/08/06 | 09/07/06
60037 | Ethan Allen Operations, Inc. (Comp) | Spruce Pine, NC | 09/08/06 | 09/07/06
60038 | Carbone Kirkwood, LLC (Comp) | Farmville, VA | 09/08/06 | 08/31/06
60039 | Hamilton Sundstrand (UAW) | Rockford, IL | 09/08/06 | 08/31/06
60040 | ADVO (Comp) | Milwaukee, WI | 09/08/06 | 09/01/06
60041 | Delphi Energy and Chassis Needmore Rd. (Union) | Dayton, OH | 09/08/06 | 08/24/06
60042 | Mattel, Inc. (State) | El Segundo, CA | 09/08/06 | 08/30/06
60043 | P.S.W., Inc. (State) | Chino, CA | 09/08/06 | 08/31/06
60044 | Degussa Engineered Carbons, LP (Union) | Belpre, OH | 09/08/06 | 09/01/06

[FR Doc. E6-15749 Filed 9-25-06; 8:45 am]

BILLING CODE 4510-30-P